DEPARTMENT OF TRANSPORTATION

Federal Highway Administration

Announcement To Amend the Outdoor Advertising Federal/State Agreements

AGENCY: Federal Highway Administration (FHWA), Department of Transportation.

ACTION: Notice.

SUMMARY: This notice announces the process for amending the outdoor advertising agreements between the States and the Secretary of Transportation acting by and through the Federal Highway Administrator, commonly known as the Federal/State Agreements.

FOR FURTHER INFORMATION CONTACT: For questions about the program discussed herein, contact Dawn Horan, FHWA Office of Real Estate Services, (202) 366-4842, or via email at Dawn.M.Horan@dot.gov. For legal questions, please contact Bob Black, FHWA Office of the Chief Counsel, (202) 366-1359, or via email at Robert.Black@dot.gov. Business hours for the FHWA are from 8:00 a.m. to 4:30 p.m., e.t., Monday through Friday, except Federal holidays.

SUPPLEMENTARY INFORMATION:

Electronic Access

You may retrieve a copy of the notice through the Federal eRulemaking portal at: http://www.regulations.gov. The Web site is available 24 hours each day, every day of the year. Electronic submission and retrieval help and guidelines are available under the help section of the Web site.

An electronic copy of this document may also be downloaded from Office of the Federal Register's home page at: http://www.archives.gov/federal_register and the Government Printing Office's Web page at: http://www.gpoaccess.gov.

Background

Congress enacted the Highway Beautification Act of 1965 (HBA) to control the erection and maintenance of outdoor advertising signs adjacent to certain Federal-aid highways in order to protect the public investment in such highways, promote the safety and recreational value of public travel, and preserve natural beauty (23 U.S.C. 131). 23 U.S.C. 131 required each State to enter into a Federal/State Agreement that includes specific outdoor advertising parameters that States must adhere to. These Federal/State Agreements were written in the late 1960's and early 1970's and most have not been amended since the original agreements were executed. Accordingly, we believe it is timely to review whether these Federal/State Agreements are consistent with the State's current outdoor advertising objectives and address the evolving technology being used or that could be used in the future by the outdoor advertising industry.

Purpose of This Notice

The purpose of this notice is twofold: (1) To encourage States to work with their FHWA Division Offices to amend their Federal/State Agreements, and (2) to describe the next steps in the Federal/State Agreement amendment process.

Planned Process

The following is the proposed process to amend the Federal/State Agreements. Key milestones include:

1. State initiates Federal/State Agreement amendment process by notifying their FHWA Division Office they would like to begin this process.

2. State works with their FHWA Division Office to outline the methods for public and stakeholder outreach and participation, including any State requirements, during the process to amend the Federal/State Agreement.

3. State works with their FHWA Division Office to draft an amended Federal/State Agreement.

4. State submits the Federal/State Amendment modification proposal in writing, including full justification for all changes, to the FHWA Division Offices.

5. State works with their FHWA Division Office to fulfill the public process outlined as well as consider all comments submitted.

6. State submits Final Draft Federal/State Agreement for FHWA Division Office and FHWA Headquarters review.

7. Amended Federal/State Agreement executed between the State and the Secretary of Transportation acting by and through the Federal Highway Administrator.

Issued on: December 20, 2013.
Victor M. Mendez,
Administrator.

[FR Doc. 2013-31233 Filed 12-31-13; 8:45 am]

BILLING CODE 4910-22-P